DEPARTMENT OF LABOR

Employment and Training Administration

[TA-W-59,787]

AGX Corporation, New York, NY; Notice of Termination of Investigation

Pursuant to Section 221 of the Trade Act of 1974, an investigation was initiated on July 25, 2006 in response to a petition filed on behalf of workers at AGX Corporation, New York, New York.

The petitioning group of workers is covered by an earlier petition (TA-W-59,744) filed on June 30, 2006 that is the subject of an ongoing investigation for which a determination has not yet been issued. Further investigation in this case would duplicate efforts and serve no purpose; therefore the investigation under this petition has been terminated.

Signed in Washington, DC, this 27th day of July 2006.
Richard Church,
Certifying Officer, Division of Trade Adjustment Assistance.

[FR Doc. E6-13185 Filed 8-10-06; 8:45 am]

BILLING CODE 4510-30-P